Title 3—

The President

Proclamation 9203 of October 31, 2014

National College Application Month, 2014

By the President of the United States of America

A Proclamation

With hard work and determination, a great education should be within everyone's reach. At the heart of America's promise is the belief that we all deserve an equal opportunity to get ahead, and today more than ever—as we face greater global competition in a knowledge-based economy—a college degree is the surest path to a stable, middle-class life. During National College Application Month, we come together to encourage all students to take control of their own destiny by applying to continue their education beyond high school and to let them know that no matter where they come from or who they are—it does not matter if they are the first in their family to apply to college or if they have been told that they are simply not college material—there is an opportunity for them.

This fall, high school seniors across our Nation are making the decision to invest in their future by earning a post-secondary degree or credential, and as they navigate the college admissions process, my Administration is dedicated to supporting them with the tools and resources they need to succeed. To help more families afford a college degree, we have expanded grants, tax credits, and loans and invested in programs that help students manage and reduce the burdens of debt after they graduate. We created the College Scorecard to make it easier for students and families to compare colleges and find ones that are well-suited to their needs. And to help students better understand the costs of college and more easily compare aid packages offered by different institutions, we developed the Financial Aid Shopping Sheet. To access these and other resources—including College Navigator and a tool that helps determine the net price of any given college—Americans can go to www.WhiteHouse.gov/ReachHigher.

Applying to college is hard work, but it is only the beginning of a journey that requires persistence and focus. A college degree unlocks pathways to opportunity; it prepares today's students for the jobs of the future and is a requirement for the educated workforce and informed citizenry our country needs to create growth, bolster our economy, and strengthen our democracy. That is why as a Nation, we must lift up our students, help them achieve their greatest potential, and work together toward an important goal: to lead the world in college completion.

This month, we celebrate the limitless possibility within every child. We honor the teachers, school counselors, and parents who help students apply to college. We recognize the institutions that are taking steps to ensure they reach the best and brightest students, regardless of their background, and all those who ensure the next generation is prepared for success, including businesses who open their doors to interns and the alumni, foundations, and faith-based organizations that provide scholarships. Let us remind all students that it is never too early to start planning for their future or reaching for their dreams.

NOW, THEREFORE, I, BARACK OBAMA, President of the United States of America, by virtue of the authority vested in me by the Constitution and the laws of the United States, do hereby proclaim November 2014 as National College Application Month. I call upon public officials, educators, parents, students, and all Americans to observe this month with appropriate ceremonies, activities, and programs designed to encourage students to make plans for and apply to college.

IN WITNESS WHEREOF, I have hereunto set my hand this thirty-first day of October, in the year of our Lord two thousand fourteen, and of the Independence of the United States of America the two hundred and thirty-ninth.

[FR Doc. 2014-26486

Filed 11-5-14; 8:45 am]

Billing code 3295-F5